DEPARTMENT OF THE INTERIOR

Bureau of Land Management

[LLCO910000-L10100000.PH0000]

Notice of the Joint Colorado Resource Advisory Council Meeting

AGENCY: Bureau of Land Management, Interior.

ACTION: Notice of public meetings.

SUMMARY: In accordance with the Federal Land Policy and Management Act of 1976 and the Federal Advisory Committee Act of 1972, the U.S. Department of the Interior, Bureau of Land Management (BLM) Northwest Colorado Resource Advisory Council (RAC), Southwest RAC, and Front Range RAC will meet as indicated below.

DATES: The Northwest, Southwest and Front Range Colorado RACs have scheduled a joint meeting for February 13, 14 and 15, 2013. On February 13, the meeting will begin at 1 p.m. and adjourn at 5 p.m.; on February 14, the meeting will begin at 8 a.m. and adjourn at 5 p.m.; on February 15, the meeting will begin at 8 a.m. and adjourn at noon. The Northwest, Southwest and Front Range RACs will hold their individual RAC meeting on February 13 as follows: Northwest RAC 1-5 p.m. with a public comment period at 2:30 p.m.; Southwest RAC 2-5 p.m. with a public comment period at 3:15 p.m.; and Front Range RAC 1-5 p.m. with a public comment period at 1:15 p.m.

ADDRESSES: The Joint Colorado RAC meeting will be held at the Denver Marriott West Hotel, 1717 Denver West Boulevard, Golden, CO 80401.

FOR FURTHER INFORMATION CONTACT: Vanessa Lacayo, Public Affairs Specialist, BLM Colorado State Office, 2850 Youngfield St., Lakewood, CO 80215, telephone (303) 239-3681. You may also visit www.blm.gov/co/st/en/BLM_Resources/racs.html.

SUPPLEMENTARY INFORMATION: The Colorado RACs advise the Secretary of the Interior, through the BLM, on a variety of public land issues in Colorado. Topics of discussion during the RAC meeting may include working group reports, the National Landscape Conservation System strategy implementation, vegetation management, youth and veteran engagement and oil and gas development. These meetings are open to the public. The public may present written comments to the RAC. There will also be time, as identified above, allocated for hearing public comments. Depending on the number of people who wish to comment during the public comment period, individual comments may be limited.

The Northwest RAC topics may include a discussion on the roles and responsibilities for sub-RAC members, the Grand Junction Resource Management Plan (RMP), an update on the Greater Sage-Grouse Environmental Impact Statement (EIS), the Draft White River Field Office RMP Amendment and field office updates.

The Southwest RAC topics may include the Uncompahgre RMP revision, the San Juan Supplement/Final EIS, drought and field office updates.

The Front Range RAC topics may include a follow-up discussion on the Cache Creek recreation area, an update on the National Natural Landmark designation for the Garden Park Fossil Area and an update on solar energy development in the San Luis Valley.

Dated: December 27, 2012.
Helen M. Hankins,
BLM Colorado State Director.

[FR Doc. 2012-31679 Filed 1-3-13; 8:45 am]

BILLING CODE 4310-JB-P